DEPARTMENT OF COMMERCE

National Oceanic and Atmospheric Administration

RIN 0648-XR77

Draft Programmatic Environmental Impact Statement; Seismic Surveys in the Chukchi and Beaufort Seas, Alaska

AGENCY: National Marine Fisheries Service (NMFS), National Oceanic and Atmospheric Administration (NOAA), Commerce.

ACTION: Draft Programmatic Environmental Impact Statement (DPEIS); Notice of Withdrawal.

SUMMARY: On November 17, 2006, pursuant to the National Environmental Policy Act (NEPA), NMFS and the Minerals Management Service (MMS) announced our intent to prepare a DPEIS that would describe and analyze the potential significant environmental impacts related to reasonably foreseeable proposed geophysical exploration using seismic surveys in the waters of the Chukchi and Beaufort seas. A Notice of Availability (NOA) for the DPEIS and a schedule of public hearings was published on April 6, 2007. Since that date, new information has become available that may affect aspects of the analysis in the DPEIS and potentially the document's scope and range of alternatives. Therefore, NMFS and MMS are withdrawing the 2007 DPEIS and initiating a new NEPA process that will consider and incorporate this new information.

DATES: Effective October 28, 2009.

FOR FURTHER INFORMATION CONTACT: For any further information, contact P. Michael Payne, Chief, Permits, Conservation and Education Division, Office of Protected Resources, NMFS, 1315 East-West Highway, Silver Spring, MD 20910 or by telephone at (301) 713-2289.

SUPPLEMENTARY INFORMATION: On April 6, 2007, NMFS and MMS published a NOA for a DPEIS and a schedule of public hearings (72 FR 17117) to assess the impacts of MMS' issuance of permits and authorizations under the Outer Continental Shelf Lands Act for the conduct of seismic surveys in the Chukchi and Beaufort seas off Alaska, and NMFS' authorizations under the Marine Mammal Protection Act to incidentally harass marine mammals while conducting those surveys. The proposed scope and effects of the seismic survey activities analyzed in the DPEIS were based on the best available information at the time. Since then, new information (e.g., scientific study results, changes in projections of seismic activity) has become available that may potentially alter the scope, set of alternatives, and analyses in the DPEIS. Also, there has been a renewed interest in exploratory drilling in both the Chukchi and Beaufort Seas. Therefore, NMFS and MMS believe it is appropriate to withdraw the 2007 DPEIS and initiate a new NEPA EIS process that will include this new information. Public comment and participation opportunities will be provided through this new NEPA process. We will be entering into discussions with stakeholders to determine how best to proceed and will publish a Notice of Intent to prepare a new EIS with dates and locations of public meetings on this subject.

Dated: October 21, 2009.
James H. Lecky,
Director, Office of Protected Resources, National Marine Fisheries Service.

[FR Doc. E9-25983 Filed 10-27-09; 8:45 am]

BILLING CODE 3510-22-S